DEPARTMENT OF HEALTH AND HUMAN SERVICES

National Institutes of Health

Submissions for OMB Review; Comment Request; Evaluation of the Impact of the New Conflicts of Interest Regulations on the National Institutes of Health's Ability to Recruit and Retain Staff

Summary: Under the provisions of Section 3507(a)(1)(D) of the Paperwork Reduction Act of 1995, the Office of Human Resources (OHR), the National Institutes of Health (NIH) has submitted to the Office of Management and Budget (OMB) a request for review and approval of the information collection listed below. The purpose of this notice is to allow 30 days for public comment. The NIH may not conduct or sponsor, and the respondent is not required to respond to, an information collection that has been extended, revised, or implemented on or after October 1, 1995, unless it displays a currently valid OMB control number.

Proposed Collection

Title: Evaluation of the Impact of the New Conflicts of Interest regulations on the National Institutes of Health's Ability To Recruit and Retain Staff.

Type of Information Collection Request: NEW.

Need and Use of Information Collection: To assess the impact of new Department of Health and Human Services (HHS) conflicts of interest regulations on the NIH's ability to continue to attract and recruit highly qualified scientific personnel. Gauging both the immediate and long-term impact of these new rules is crucial to NIH's ability to develop and maintain a world-class staff. This project will produce data that will help NIH and HHS leaders determine the impact of the regulations and how to minimize the effect of the regulations on NIH's ability to recruit and retain staff. NIH intends to survey potential applications for NIH employment from scientific organizations from which NIH has traditionally drawn leading scientific personnel, and those senior scientists and administrators who have voluntarily left NIH since February 2005. This will allow NIH to determine whether the regulations impact individuals' attitudes about employment at NIH and the likelihood of their joining and/or leaving the agency. This proposed one-time survey is part of a larger study that will provide OHR with the high-quality data needed to evaluate the impact of the new rules. Data will be collected on respondents' understanding of the new regulations, how they believe the regulations could impact them, and on their feelings about working at NIH in light of the regulations. Data will also be collected from current NIH employees and the combined data will be used in the review of the rules. The survey is planned to launch in early 2007 and to be in the field for eight weeks.

Frequency of Response: Once.

Affected Public: Individuals or households.

Type of Respondents: Potential applicants for NIH positions and senior scientists and administrators who have voluntarily left NIH since February 2005.

The annual reporting burden is as follows:

Type of respondent | Number of respondents | Frequency of response | Average time per response (minutes) | Estimated total annual hour burden (hours)
Potential Applicants | 400 | 1 | 15 | 100
Former NIH Employees | 100 | 1 | 10 | 16.67
TOTAL | 500 |  |  | 116.67

Total Number of Respondents: 500.

Total Number of Responses: 500.

Total Hours: 116.67 hours.

The annualized cost to respondents is estimated at: $3,850.

There are no capital costs, operating costs, and/or maintenance costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comment to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Mr. Richard M. Taffet, Director, Client Services Division; Office of Human Resources, Office of the Director, National Institutes of Health, Room 2-D234, East Jefferson Street, Bethesda, MD 20892-8503, or call the non-toll-free number 301-402-6627, or e-mail your comments or request, including your address, to: Taffetr@mail.nih.gov.

Comments Due Date: Comments regarding this information collection are best assured of having their full effect if received within 30 days of this publication.

Dated: February 26, 2007.
Richard M. Taffet,
Director, Client Services Division, OHR, OD, National Institutes of Health.

[FR Doc. 07-1087 Filed 3-8-07; 8:45 am]

BILLING CODE 4140-10-M